DEPARTMENT OF THE INTERIOR

Bureau of Land Management

[LLAZG02000.L143000000.EQ0000.TAS:14X1109.241A]

Notice of Relocation of the Bureau of Land Management's San Pedro Project Office in Sierra Vista, AZ

AGENCY: Bureau of Land Management, Interior.

ACTION: Notice.

SUMMARY: This notice announces the relocation of the Bureau of Land Management's (BLM) San Pedro Project Office (SPPO), temporary closure of the office during the relocation, and reopening in its new location. Both current and new offices are in the Sierra Vista area within Cochise County, Arizona.

On Tuesday, August 20, 2013, at the close of business (4 p.m.), the BLM SPPO will close for the purpose of relocation. The SPPO provides support staff for the San Pedro Riparian National Conservation Area and fire and resource management for the area. The office will reopen at 8 a.m. on Monday, August 26, 2013, at its new address. The SPPO telephone number will remain the same: 520-439-6400.

ADDRESSES: The new SPPO is located at 4070 South Avenida Saracino, Hereford, AZ 85615. From the State Road (SR) 90/92 intersection in Sierra Vista, drive south on SR92 for 7.3 miles and turn left on Avenida Saracino.

FOR FURTHER INFORMATION CONTACT: Dennis Sylvia, Associate District Manager, Gila District Office, 3201 Universal Way, Tucson, AZ 85756, or 520-258-7200.

Persons who use a telecommunications device for the deaf (TDD) may call the Federal Information Relay Service (FIRS) at 1-800-877-8339 to contact the above individual during normal business hours. The FIRS is available 24 hours a day, 7 days a week, to leave a message or question with the above individual. You will receive a reply during normal business hours.

Raymond Suazo,
Arizona State Director.

[FR Doc. 2013-21114 Filed 8-28-13; 8:45 am]

BILLING CODE 4310-32-P